DEPARTMENT OF HEALTH AND HUMAN SERVICES

National Institutes of Health

Proposed Collection; 60-Day Comment Request; ABCD Study® Audience Feedback Teams (National Institute on Drug Abuse)

AGENCY: National Institutes of Health, HHS.

ACTION: Notice.

SUMMARY: In compliance with the requirement of the Paperwork Reduction Act of 1995 to provide opportunity for public comment on proposed data collection projects, the National Institute on Drug Abuse (NIDA) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Kimberly LeBlanc Scientific Program Manager, Division of Extramural Research, National Institute on Drug Abuse, C/O NIH Mail Center/Dock 11, 3WFN Room 09C77 MSC 6021, Gaithersburg, MD 20877 (20892 for USPS), or call non-toll-free number (301) 827-4102, or Email your request, including your address, to: kimberly.leblanc@nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Adolescent Brain & Cognitive Development (ABCD) Study℠—Audience Feedback Teams, 0925 -NEW, exp., date XX/XX/XXXX, National Institute on Drug Abuse (NIDA), National Institutes of Health (NIH).

Need and Use of Information Collection: The purpose of this information collection request is to solicit audience feedback to improve the data collection process for the Adolescent Brain Cognitive Development (ABCD) Study. Started in 2015, the ABCD Study® follows a cohort of over 10,000 young people from pre-adolescence into adulthood to understand how growing brains are shaped by experiences and biology. To prepare for each year's Study data collection, the National Institute of Health is collecting audience feedback on a selection of survey questions and research protocols. Parents/caregivers and teens who are the same age as the study cohort members but who are not Study participants will review proposed questions and give feedback on questions' clarity and acceptability. Recommendations from these findings help the ABCD Study team improve their protocol for a more-successful data collection.

Audience feedback activities will include a mix of asynchronous and scheduled, live data collection: web-based survey activities, virtual discussion boards, individual interviews, and discussions groups. Assembling a cohort of audience feedback participants who are familiar with the ABCD Study and participate in multiple data collection activities minimizes the burden required to familiarize new participants with the purpose of the Study and the expectations for audience feedback.

OMB approval is requested for 3 years. There are no costs to respondents other than their time. The total estimated annualized burden hours are 172.

Estimated Annualized Burden Hours
Type of respondent | Number of respondents | Number of responses per respondent | Average time per response (in hours) | Total annual burden hour
Individuals (Teen Phone Screener) | 72 | 1 | 5/60 | 6
Individuals (Teen Assent or Consent) | 36 | 1 | 10/60 | 6
Individuals (Teen Web Survey) | 36 | 2 | 30/60 | 36
Individuals (Teen Virtual Group Discussion or Online Bulletin Board) | 36 | 2 | 1 | 72
Individuals (Parent/Caregiver Phone Screener) | 72 | 1 | 5/60 | 6
Individuals (Parent/Caregiver Permission for Teen Participation) | 36 | 1 | 5/60 | 3
Individuals (Parent/Caregiver Consent) | 15 | 1 | 5/60 | 1
Individuals (Parent/Caregiver Web Survey) | 15 | 2 | 30/60 | 15
Individuals (Parent/Caregiver Virtual Interview) | 15 | 1 | 30/60 | 8
Individuals (Parent/Caregiver Online Bulletin Board) | 15 | 1 | 1 | 15
Individuals (Parent/Caregiver “At-Home” Materials Review) | 15 | 1 | 15/60 | 4
Total |  | 450 |  | 172

Lanette A. Palmquist,
Project Clearance Liaison, National Institute on Drug Abuse, National Institutes of Health.

[FR Doc. 2023-21698 Filed 9-29-23; 8:45 am]

BILLING CODE 4140-01-P